DEPARTMENT OF JUSTICE

[OMB Number 1121-0100]

Agency Information Collection Activities; Proposed eCollection eComments Requested; Reinstatement of a Previously Approved Collection; Census of Jails 2024-26

AGENCY: Bureau of Justice Statistics, Department of Justice.

ACTION: 60-Day notice.

SUMMARY: The Bureau of Justice Statistics, Department of Justice (DOJ), will be submitting the following information collection request to the Office of Management and Budget (OMB) for review and approval in accordance with the Paperwork Reduction Act of 1995.

DATES: Comments are encouraged and will be accepted for 60 days until February 9, 2024.

FOR FURTHER INFORMATION CONTACT: If you have additional comments especially on the estimated public burden or associated response time, suggestions, or need a copy of the proposed information collection instrument with instructions or additional information, please contact Zhen Zeng, Bureau of Justice Statistics, 810 Seventh Street NW, Washington, DC 20531 (email: Zhen.Zeng@usdoj.gov; telephone: 202-598-9955).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Since 1970, BJS has conducted the Census of Jails (COJ, OMB Control No. 1121-0010) every 5-6 years to gather data on jail facilities and inmate populations. The most recent COJ was conducted in 2019 and collected data from around 2,900 U.S. local jails. The COJ is BJS's most comprehensive collection of jail data and serves as the sampling frame for BJS's other jail surveys. In the years when the COJ is not fielded, BJS administers the Annual Survey of Jails (ASJ, OMB Control No. 1121-0094) to one third of the local jails nationwide. However, the ASJ's sample size is not sufficient to produce state-level estimates. To address this gap, BJS proposes to replace the ASJ with an annual census starting in 2025. The change will ensure that policymakers, correctional administrators, and government officials have timely and relevant data for policy development, budget planning, and oversight. The 2025 and 2026 COJ forms will be shorter, resembling the ASJ form in scope, with 16 items related to jail populations and facility characteristics. In 2024, the COJ will collect comprehensive data on jail population size and characteristics, such as one-day counts, demographics, conviction status, holds for federal and state prison authorities. It will also cover facility characteristics and jail programs. Notably, the 2024 COJ includes a special module on opioids use disorder screening and treatment which updates data first collected in 2019.

Overview of This Information Collection

1. Type of Information Collection: Reinstatment of a previously approved collection.

2. The Title of the Form/Collection: Census of Jails (COJ).

3. The agency form number, if any, and the applicable component of the Department sponsoring the collection: The COJ contains one form—CJ-3: Census of Jails. The applicable component within the Department of Justice is the Bureau of Justice Statistics (BJS), in the Office of Justice Programs.

4. Affected public who will be asked or required to respond, as well as the obligation to respond: Affected Public is state, local, and tribal governments. The obligation to respond is voluntary.

5. An estimate of the total number of respondents and the amount of time estimated for an average respondent to respond: The total estimated number of respondents is 2,900 for each year of collection.

It takes 150 minutes to complete the 2024 COJ form. About 70% of the respondents (2,030) will be contacted for data quality follow-up and each follow-up will take 10 minutes. The total burden for the 2024 COJ is 7,588 hours. The 2025 and 2026 COJ forms are shorter than the 2024 form and take 80 minutes per response. The estimated time and number of respondents for data quality follow-up remain the same. In addition, it takes 5 minutes to verify jail status and point-of-contact per jail for the 2025 and 2026 COJ. The burden for the 2025 and 2026 COJ is 4,447 hours for each collection. Jail verification takes 10 minutes per jail for the 2024 COJ. This burden is covered by BJS's generic clearance agreement (OMB Control Number 1121-0339) and excluded from the current OMB application.

6. An estimate of the total annual burden (in hours) associated with the collection: The average annual burden is 5,494 hours, or 16,482 hours for three years of data collection.

7. An estimate of the total annual cost burden associated with the collection, if applicable: The estimated cost is $494,460.

Total Burden Hours
Activity | Number of respondents | Frequency | Total annual responses | Average reporting time (min) | Total annual burden (hours)
2024 COJ
Data collection | 2,900 | Annual | 2,900 | 150 | 7,250
Data quality follow-up | 2,030 | Annual | 2,030 | 10 | 338
Unduplicated Totals | 2,900 |  |  |  | 7,588
2025 COJ
Data collection | 2,900 | Annual | 2,900 | 80 | 3,867
Data quality follow-up | 2,030 | Annual | 2,030 | 10 | 338
Jail status and point-of-contact verification | 2,900 | Annual | 2,900 | 5 | 242
Unduplicated Totals | 2,900 |  |  |  | 4,447
2026 COJ
Data collection | 2,900 | Annual | 2,900 | 80 | 3,867
Data quality follow-up | 2,030 | Annual | 2,030 | 10 | 338
Jail status and point-of-contact verification | 2,900 | Annual | 2,900 | 5 | 242
Unduplicated Totals | 2,900 |  |  |  | 4,447
Unduplicated Totals for 2024, 2025, and 2026 COJ | 2,900 |  |  |  | 16,482

If additional information is required contact: Darwin Arceo, Department Clearance Officer, United States Department of Justice, Justice Management Division, Policy and Planning Staff, Two Constitution Square, 145 N Street NE, 4W-218, Washington, DC.

Dated: December 6, 2023.
Darwin Arceo,
Department Clearance Officer for PRA, U.S. Department of Justice.

[FR Doc. 2023-27096 Filed 12-8-23; 8:45 am]

BILLING CODE 4410-18-P